DEPARTMENT OF THE INTERIOR

Bureau of Land Management

[LLWY-920000-L143000000-ET0000; WYW109115]

Notice of Public Meeting, Whiskey Mountain Bighorn Sheep Range Locatable Mineral Withdrawal Extension, WY

AGENCY: Bureau of Land Management, Interior.

ACTION: Notice.

SUMMARY: The Bureau of Land Management (BLM) will hold a public meeting in conjunction with the Whiskey Mountain Bighorn Sheep Range Locatable Mineral Withdrawal Extension to protect and preserve bighorn sheep winter range and capital investments on the land described in the Public Land Order (PLO) at 55 FR 37878 (1990).

DATES: The public meeting will be held from 6 p.m. to 8 p.m. Mountain Standard Time on Tuesday, June 15, 2010, at the Headwaters Art and Conference Center, 20 Stalnaker St., Dubois, WY.

ADDRESSES: Comments should be sent to the Bureau of Land Management, Lander Field Office, P.O. Box 589, Lander, WY 82520, or e-mail lander_wymail@blm.gov.

FOR FURTHER INFORMATION CONTACT: Janelle Wrigley, BLM, Wyoming State Office, P.O. Box 1828, Cheyenne, WY 82003; 307-775-6257; or email janelle_wrigley@blm.gov.

SUPPLEMENTARY INFORMATION: The Notice of Proposed Withdrawal Extension for the Whiskey Mountain Bighorn Sheep Winter Range, which was published in the Federal Register on January 8, 2010 (76 FR 1076-1077), is hereby modified to schedule one public meeting as provided for by Section 204 of the Federal Land Policy and Management Act of 1976, 43 U.S.C. 1714 (2000).

All persons who wish to submit comments in connection with the proposed withdrawal extension may present their views in writing at the public meeting or to the Wyoming State Director of the Bureau of Land Management within 30 days after the public meeting. A complete legal description can be provided by the Wyoming State Office at the address shown above or at the Lander Field Office.

Before including your address, phone number, e-mail address, or other personal identifying information in your comment, you should be aware that your entire comment—including your personal identifying information—may be made publicly available at any time. While you can ask us in your comment to withhold your personal identifying information from public review, we cannot guarantee that we will be able to do so.

The withdrawal will continue to be processed in accordance with the regulations set forth in 43 CFR 2310.4.

Donald A. Simpson,
State Director.

[FR Doc. 2010-11458 Filed 5-13-10; 8:45 am]

BILLING CODE 4310-22-P